ENVIRONMENTAL PROTECTION AGENCY

40 CFR Part 705

[EPA-HQ-OPPT-2020-0549; FRL 7902.1-01-OCSPP]

RIN 2070-AK67

Perfluoroalkyl and Polyfluoroalkyl Substances (PFAS) Data Reporting and Recordkeeping Under the Toxic Substances Control Act (TSCA); Change to Submission Period and Technical Correction

AGENCY: Environmental Protection Agency (EPA).

ACTION: Proposed rule; change to submission period and technical correction.

SUMMARY: The Environmental Protection Agency (EPA or Agency) is proposing to amend the Toxic Substances Control Act (TSCA) regulation with reporting and recordkeeping requirements for perfluoroalkyl and polyfluoroalkyl substances (PFAS) that was finalized on October 11, 2023. The final rule requires manufacturers (including importers) of PFAS in any year between 2011-2022 to report certain information to EPA beginning November 12, 2024. EPA is proposing a one-time modification of the data submission period and a technical correction to amend a typographical error in the regulatory text. EPA is not proposing any changes to the scope of reporting under TSCA. EPA has concluded that a change to the submission period is necessary and in the public interest as the reporting application being developed to collect this data will not be fully functional by November 2024. The proposed revision of the submission period would facilitate compliance with the rule and help ensure that the collection includes accurate data on manufactured PFAS in the United States. EPA thus believes the proposed amendments are necessary and does not expect to receive any adverse comments. Therefore, in addition to this notice of proposed rulemaking, in the “Rules and Regulations” section of this issue of the Federal Register, EPA is promulgating the submission period modification and technical correction as a direct final rule. For more information on this proposal, please refer to the direct final rule.

DATES: Comments must be received on or before October 7, 2024.

ADDRESSES: Submit your comments, identified by docket identification (ID) number EPA-HQ-OPPT-2020-0549, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Stephanie Griffin, Data Gathering, Management, and Policy Division (7406M), Office of Pollution Prevention and Toxics, Environmental Protection Agency, 1200 Pennsylvania Ave. NW, Washington, DC 20460-0001; telephone number: 202-564-1463; email address: griffin.stephanie@epa.gov.

For general information contact: The TSCA-Hotline, ABVI-Goodwill, 422 South Clinton Ave., Rochester, NY 14620; telephone number: (202) 554-1404; email address: TSCA-Hotline@epa.gov.

SUPPLEMENTARY INFORMATION: In addition to this Notice of Proposed Rulemaking, EPA is issuing the action as a direct final rule published elsewhere in this issue of the Federal Register (i.e., see FRL-7902.1-02-OCSPP). For further information about the proposed changes, please see the information provided in the direct final action, with the same title, that is located in the “Rules and Regulations” section of this issue of the Federal Register. For the reasons set out in the preamble to that direct final action, this proposed rule would amend title 40 part 705 of the Code of Federal Regulations as provided in that direct final action.

List of Subjects in 40 CFR Part 705

Chemicals, Environmental protection, Recordkeeping and reporting requirements.

Dated: August 29, 2024.
Michal Freedhoff,
Assistant Administrator Office of Chemical Safety and Pollution Prevention.

[FR Doc. 2024-19929 Filed 9-4-24; 8:45 am]

BILLING CODE 6560-50-P